ENVIRONMENTAL PROTECTION AGENCY

40 CFR Part 63

[OAR-2002-0045, FRL-7657-2]

RIN 2060-AK53

National Emission Standards for Hazardous Air Pollutants for Chemical Recovery Combustion Sources at Kraft, Soda, Sulfite, and Stand-Alone Semichemical Pulp Mills

AGENCY: Environmental Protection Agency (EPA).

ACTION: Final rule; technical corrections.

SUMMARY: On February 18, 2003, the EPA promulgated amendments to the national emission standards for hazardous air pollutants (NESHAP) for chemical recovery combustion sources at kraft, soda, sulfite, and stand-alone semichemical pulp mills. The technical corrections in the final rule correct several cross-references in order to be consistent with the text shifts made in the February 18, 2003 amendments.

DATES: Effective Date: The technical corrections are effective May 6, 2004.

ADDRESSES: Docket ID No. OAR-2002-0045 and Docket ID No. A-94-67, containing supporting information used in the development of the final rule, are available for public viewing at the EPA Docket Center (Air Docket), EPA West, Room B-102, 1301 Constitution Avenue, NW., Washington, DC. The EPA Docket Center Public Reading Room is open from 8:30 a.m. to 4:30 p.m., Monday through Friday, excluding legal holidays. The telephone number for the Public Reading Room is (202) 566-1744, and the telephone number for the Air Docket is (202) 566-1742.

FOR FURTHER INFORMATION CONTACT: Mr. Jeff Telander, Minerals and Inorganic Chemicals Group, Emission Standards Division (C504-05), Office of Air Quality Planning and Standards, U.S. EPA, Research Triangle Park, NC 27711, telephone number (919) 541-5427, facsimile number (919) 541-5600, electronic mail (e-mail address telander.jeff@epa.gov.

SUPPLEMENTARY INFORMATION: Regulated Entities. Categories and entities potentially regulated by this action are those kraft, soda, sulfite, and stand-alone semichemical pulp mills with chemical recovery processes that involve the combustion of spent pulping liquor. Categories and entities potentially regulated by this action include:

Category | NAICS code * | Examples of regulated entities
Industry | 32211 32212 32213 | Kraft, soda, sulfite, and stand-alone semichemical pulp mills.
Federal government |  | Not affected.
State/local/tribal government |  | Not affected.
* North American Industrial Classification System.

This table is not intended to be exhaustive, but rather provides a guide for readers regarding entities likely to be regulated by this action. To determine whether your facility is regulated by this action, you should carefully examine the applicability criteria in § 63.860 of the national emission standards. If you have questions regarding the applicability of this action to a particular entity, consult the person listed in the preceding FOR FURTHER INFORMATION CONTACT section of this document. Docket. The EPA has established an official public docket for this action including both Docket ID No. OAR-2002-0045 and Docket ID No. A-94-67. The official public docket consists of the documents specifically referenced in the final rule, any public comments received, and other information related to the final rule. All items may not be listed under both docket numbers, so interested parties should inspect both docket numbers to ensure that they have received all materials relevant to the final rule. Although a part of the official docket, the public docket does not include Confidential Business Information or other information whose disclosure is restricted by statute. The official public docket is available for public viewing at the EPA Docket Center (Air Docket), EPA West, Room B-102, 1301 Constitution Avenue, NW., Washington, DC. The EPA Docket Center Public Reading Room is open from 8:30 a.m. to 4:30 p.m., Monday through Friday, excluding legal holidays. The telephone number for the Public Reading Room is (202) 566-1744, and the telephone number for the Air Docket is (202) 566-1742.

Electronic Access. You may access this Federal Register document electronically through the EPA Internet under the Federal Register listings at http://www.epa.gov/fedrgstr/. You may also access a copy of the final rule incorporating the provisions of the Federal Register notice through the Technology Transfer Network (TTN) at http://www.epa.gov/ttn/atw/pulp/pulppg.html. An electronic version of the public docket is available through EPA's electronic public docket and comment system, EPA Dockets. You may use EPA Dockets at http://www.epa.gov.edocket/ to view public comments, access the index listing of the contents of the official public docket, and to access those documents in the public docket that are available electronically. Although not all docket materials may be available electronically, you may still access any of the publicly available docket materials through the docket facility identified above. Once in the system, select “search,” then key in the appropriate docket identification number.

Background. On February 18, 2003, we published a direct final rule (68 FR 7706) and parallel proposal (68 FR 7735) amending the NESHAP for chemical recovery combustion sources at kraft, soda, sulfite, and stand-alone semichemical pulp mills (40 CFR part 63, subpart MM). The amendments clarified and consolidated the monitoring and testing requirements and added a site-specific alternative standard for one pulp mill. The consolidation of the monitoring and testing requirements resulted in significant text shifts within and between the monitoring and testing sections.

The technical corrections in the final rule correct the following cross-references in order to be consistent with the text shifts made in the February 18, 2003 amendments:

• The reference in § 63.866(a)(1) to the procedures in § 63.864(b)(2) for establishing operating ranges is corrected to refer to the procedures in § 63.864(j);

• The references in §§ 63.866(b) and 63.867(c) to the ongoing compliance provisions in § 63.864(c),(c)(1) and (2) are revised to refer to the provisions in § 63.864(k), (k)(1) and (2), respectively;

• The reference in § 63.866(c)(4) to the compliance determinations made under § 63.865(a) through (e) is corrected to refer to the compliance determinations made under § 63.865(a) through (d); and

• The references in the General Provisions table (under §§ 63.7(a)(1) and 63.7(h)) to the performance test exemption in § 63.864(a)(6) are corrected to refer to the exemption in § 63.865(c)(1).

Section 553(d) of 5 U.S.C. allows an agency, upon a finding of good cause, to make a rule effective immediately. Because today's final rule simply corrects cross-references in order to be consistent with text shifts made in the February 18, 2003 amendments, does not add any requirements necessitating additional time for compliance, and otherwise does not substantively change the requirements of the final rule or otherwise affect sources' ability to comply with the final rule or any compliance obligation a source may have, we find good cause to make the final rule effective immediately.

Statutory and Executive Order Review

Under Executive Order 12866 (58 FR 51736, October 4, 1993), this action is not a “significant regulatory action” and is, therefore, not subject to review by the Office of Management and Budget. Because EPA has made a “good cause” finding that this action is not subject to notice and comment requirements under the Administrative Procedure Act or any other statute, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of the UMRA. This action also does not significantly or uniquely affect the communities of tribal governments, as specified by Executive Order 13084 (63 FR 27655, May 10, 1998). This action will not have substantial direct effects on the States, on the relationship between the national government and the States, or on the distribution of power and responsibilities among the various levels of government, as specified in Executive Order 13132 (64 FR 43255, August 10, 1999). This action also is not subject to Executive Order 13045 (62 FR 19885, April 23, 1997) because it is not economically significant.

Section 12(d) of the National Technology Transfer and Advancement Act (NTTAA) of 1995 (Public Law 104-113; 15 U.S.C. 272 note) directs EPA to use voluntary consensus standards in its regulatory and procurement activities unless to do so would be inconsistent with applicable law or otherwise impractical. The EPA is not proposing/adopting any voluntary consensus standards in this action.

This action does not involve special consideration of environmental justice related issues as required by Executive Order 12898 (59 FR 7629, February 16, 1994). In issuing these technical corrections, EPA has taken the necessary steps to eliminate drafting errors and ambiguity, minimize potential litigation, and provide a clear legal standard for affected conduct, as required by section 3 of Executive Order 12988 (61 FR 4729, February 7, 1996). The EPA has complied with Executive Order 12630 (53 FR 8859, March 15, 1988) by examining the takings implications of these technical corrections in accordance with the “Attorney General's Supplemental Guidelines for the Evaluation of Risk and Avoidance of Unanticipated Takings” issued under the executive order. These technical corrections do not impose an information collection burden under the provisions of the Paperwork Reduction Act of 1995 (44 U.S.C. 3501 et seq.).

The Congressional Review Act (5 U.S.C. 801 et seq.), as added by the Small Business Regulatory Enforcement Fairness Act of 1996, generally provides that, before a rule may take effect, the agency promulgating the rule must submit a rule report, which includes a copy of the rule, to each House of the Congress and to the Comptroller General of the United States. Section 808 allows the issuing agency to make a rule effective sooner than otherwise provided by the Congressional Review Act if the agency makes a good cause finding that notice and public procedure is impracticable, unnecessary, or contrary to the public interest. This determination must be supported by a brief statement (5 U.S.C. 808(2)). As stated previously, EPA has made such a good cause finding, including the reasons therefor, and established an effective date of May 6, 2004. The EPA will submit a report containing the rule and other required information to the U.S. Senate, the U.S. House of Representatives, and the Comptroller General of the United States prior to publication of the rule in the Federal Register. This action is not a “major rule” as defined by 5 U.S.C. 804(2).

List of Subjects in 40 CFR Part 63

Environmental protection, Administrative practice and procedure, Air pollution control, Hazardous substances, Reporting and recordkeeping requirements.

Dated: April 28, 2004.
Robert Brenner,
Acting Assistant Administrator for Air and Radiation.

For the reasons set out in the preamble, title 40, chapter I, part 63 of the Code of Federal Regulations is amended as follows:

PART 63—[AMENDED]

1. The authority citation for part 63 continues to read as follows:

Authority: 42 U.S.C. 7401 et seq.

Subpart MM—National Emission Standards for Hazardous Air Pollutants for Chemical Recovery Combustion Sources at Kraft, Soda, Sulfite, and Stand-Alone Semichemical Pulp Mills

2. Section 63.866 is amended by revising paragraphs (a)(1) introductory text, (b), and (c)(4) to read as follows:

§ 63.866 Recordkeeping requirements.

(a) * * *

(1) Procedures for responding to any process parameter level that is inconsistent with the level(s) established under § 63.864(j), including the procedures in paragraphs (a)(1)(i) and (ii) of this section:

* * * * *

(b) The owner or operator of an affected source or process unit must maintain records of any occurrence when corrective action is required under § 63.864(k)(1), and when a violation is noted under § 63.864(k)(2).

* * * * *

(c) * * *

(4) Records and documentation of supporting calculations for compliance determinations made under §§ 63.865(a) through (d);

* * * * *

3. Section 63.867 is amended by revising paragraph (c) introductory text to read as follows:

§ 63.867 Reporting requirements.

* * * * *

(c) Excess emissions report. The owner or operator must report quarterly if measured parameters meet any of the conditions specified in paragraph (k)(1) or (2) of § 63.864. This report must contain the information specified in § 63.10(c) of this part as well as the number and duration of occurrences when the source met or exceeded the conditions in § 63.864(k)(1), and the number and duration of occurrences when the source met or exceeded the conditions in § 63.864(k)(2). Reporting excess emissions below the violation thresholds of § 63.864(k) does not constitute a violation of the applicable standard.

* * * * *

4. Table 1 to Subpart MM is amended by revising the entries for §§ 63.7(a)(1) and 63.7(h) to read as follows:

Table 1 to Subpart MM of Part 63—General Provisions Applicability to Subpart MM
General Provisions reference | Summary of requirements | Applies to supbart MM | Explanation
* * * * * * *
63.7(a)(1) | Performance testing requirements—applicability | Yes | § 63.865(c)(1) specifies the only exemption from performance testing allowed under subpart MM.
* * * * * * *
63.7(h) | Waiver of performance tests | Yes | § 63.865(c)(1) specifies the only exemption from performance testing allowed under subpart MM.
* * * * * * *

* * * * *

[FR Doc. 04-10343 Filed 5-5-04; 8:45 am]

BILLING CODE 6560-50-P